DEPARTMENT OF HEALTH AND HUMAN SERVICES

National Institutes of Health

Center for Scientific Review; Amended Notice of Meeting

Notice is hereby given of a change in the meeting of the Center for Scientific Review Special Emphasis Panel, July 23, 2008, 8 a.m. to July 24, 2008, 6 p.m., National Institutes of Health, 6701 Rockledge Drive, Bethesda, MD 20892 which was published in the Federal Register on July 1, 2008, 78 FR 37469.

The meeting will be held August 14, 2008 to August 15, 2008. The meeting time and location remains the same.

The meeting is closed to the public.

Dated: July 23, 2008.
Jennifer Spaeth,
Director, Office of Federal Advisory Committee Policy.

[FR Doc. E8-17518 Filed 7-30-08; 8:45 am]

BILLING CODE 4140-01-M